DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Survey of Construction—Questionnaire for Building Permit Official.

Form Number(s): SOC-QBPO.

Agency Approval Number: 0607-0125.

Type of Request: Extension of a currently approved collection.

Burden: 225 hours.

Number of Respondents: 900.

Average Hours per Response: 15 minutes.

Needs and Uses: The U.S. Census Bureau requests an extension of the currently approved collection for the Questionnaire for Building Permit Official (SOC-QBPO) form. The information collected on the SOC-QBPO is necessary to carry out the sampling for the Survey of Housing Starts, Sales and Completions (OMB number 0607-0110), also known as the Survey of Construction (SOC). Government agencies and private companies use statistics from SOC to monitor and evaluate the large and dynamic housing construction industry.

The Census Bureau field representatives (FRs) use the SOC-QBPO to obtain information on the operating procedures of a permit office. This enables them to locate, classify, list, and sample building permits for residential construction. These permits are used as the basis for the sample selected for SOC. The Census Bureau also uses the information to verify and update the geographic coverage of permit offices.

Failure to collect this information would make it difficult, if not impossible, to classify accurately and sample building permits for the SOC. The SOC produces data for two principal economic indicators. They are: New Residential Construction (housing starts and housing completions) and New Residential Sales.

Affected Public: Business or other for-profit.

Frequency: Annually.

Respondent's Obligation: Voluntary.

Legal Authority: Title 13 U.S.C., section 182.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: February 16, 2006.
Madeleine Clayton,
Management Analyst, Office of the Chief Information Officer.

[FR Doc. E6-2526 Filed 2-22-06; 8:45 am]

BILLING CODE 3510-07-P